DEPARTMENT OF STATE

[Public Notice 3821]

Privacy Act of 1974: Creation of a New System of Records

Notice is hereby given that the Department of State proposes to create a new system of records, STATE-32, pursuant to the provisions of the Privacy Act of 1974, as amended [5 U.S.C. 552a(r)], and the Office of Management and Budget Circular No. A-130, Appendix I. The Department's report was filed with the Office of Management and Budget on October 04, 2001.

STATE-32 is being implemented by the Department of State to facilitate its responsibility for managing the Department's Child Care Subsidy Program.

Any persons interested in commenting on this new system of records may do so by submitting comments in writing to Margaret Peppe, Chief; Programs and Policies Division; Office of IRM Programs and Services; A/RPS/IPS/PP; U.S. Department of State, SA-2; Washington, DC 20522-6001.

This system of records will be effective 40 days from the date of publication, unless we receive comments that will result in a contrary determination.

This new system description, “Child Care Subsidy Program Records, STATE-32” will read as set forth below.

Dated: October 4, 2001.
William A. Eaton,
Assistant Secretary for the Bureau of Administration, Department of State.

STATE-32

System name:

Child Care Subsidy Program Records.

Security classification:

Unclassified.

System location:

Department of State, SA-14, 2401 E Street, NW; Washington, DC 20520; and the Federal Employees Education and Assistance Fund (FEEA), 8441 W. Bowles Avenue, Suite 200, Littleton, CO 80123-9501.

Categories of individuals covered by the system:

Employees of the Department of State who voluntarily apply for a child care subsidy, their spouses and children.

Categories of records in the system:

Application forms for a child care subsidy contain personal information including employee's (parent/guardian) name, Social Security Number, position grade, home phone number, home address, total income, number of dependent children, and number of children on whose behalf the parent is applying for a subsidy, information on any tuition assistance received from state/county/local child care subsidy, and information on child care providers used, including their name, address, provider license number, and state of license issued, tuition cost, provider tax identification number, and copies of Internal Revenue Form 1040 for verification purposes.

Authority for maintenance of the system:

Consolidated Appropriations Act of 2001, Pub. L. 106-544.

Purpose(s):

Information contained in the Child Care Subsidy Program Records is collected and maintained by the Bureau of Human Resources in the administration of its responsibility for managing the Department's Child Care Subsidy Program. The primary use of the records maintained in this system is to establish and verify Department of State employees' eligibility for child care subsidies in order to provide monetary assistance to them. Other uses of the records in the system include verifying the eligibility of child care centers and compliance with regulations.

Routine uses of records maintained in the system, including categories of users and purposes of such uses:

The information in this system is used by:

(1) Experts, consultants or contractors of the Department who determine eligibility and/or payment of child care subsidies;

(2) Child care providers in order to verify a covered child's dates of attendance at the provider's facility;

(3) The Bureau of Finance and Management Policy (FMP) of the Department of State, responsible for wages, compensation and allowances;

(4) The Department of Justice, or a court, adjudicative or other administrative body, or a party in litigation before a court or adjudicative or administrative body, when:

(a) One of the following is a party to the proceeding or has an interest in the proceeding:

(1) The Department or any component of the Department;

(2) Any Departmental employee acting in his or her official capacity;

(3) Any Departmental employee acting in his or her individual capacity where the Department of Justice has agreed to represent the employee, or

(4) The United States, when the Department determines that the Department is likely to be affected by the proceeding; and

(b) The Department deems the disclosure to be relevant and necessary to the proceedings.

Storage:

Electronic media, hard copy.

Retrievability:

Individual name and Social Security Number.

Safeguards:

All employees of the Department of State have undergone a thorough background security investigation. Access to the Department and its annexes are controlled by security guards and admission is limited to those individuals possessing a valid identification card or individuals under proper escort. All records containing personal information are maintained in secured file cabinets or in restricted areas, access to which is limited to authorized personnel and contractors; and Federal Employees Education and Assistance Fund employees and contractors. Access to computerized files is password-protected and under the direct supervision of the system manager. The system manager has the capability of printing audit trails of access from the computer media, thereby permitting regular and ad hoc monitoring of computer usage.

Retention and disposal:

These records will be maintained until they become inactive, at which time they will be retired or destroyed in accordance with published record schedules of the Department of State and as approved by the National Archives and Records Administration. More specific information may be obtained by writing to the Director; Office of IRM Programs and Services; SA-2; Department of State; 515 22nd Street, NW; Washington, DC 20522-6001.

System manager and address:

The Director General of the Foreign Service and Director of Human Resources, Department of State; 2201 C Street, NW; Washington, DC 20520.

Notification procedure:

Individuals who have reason to believe that the Bureau of Human Resources might have records pertaining to themselves should write to the Director; Office of IRM Programs and Services; SA-2; Department of State; 515 22nd Street, NW; Washington, DC 20522-6001. The individual must specify that he/she wishes the Child Care Subsidy Program Records to be checked. At a minimum, the individual should include: name; date and place of birth; current mailing address and zip code; signature; and preferably his/her Social Security Number; a brief description of the circumstances that caused the creation of the record, and the approximate dates which give the individual cause to believe that the Bureau of Human Resources has records pertaining to him/her.

Record access and amendment procedures:

Individuals who wish to gain access to or amend records pertaining to themselves should write to the Director, Office of IRM Programs and Services (address above).

Record source categories:

Information is provided by Department of State employees who apply for child care subsidies.

Systems exempted from certain provisions of the Act:

None.

[FR Doc. 01-26771 Filed 10-23-01; 8:45 am]

BILLING CODE 4710-24-P